FEDERAL COMMUNICATIONS COMMISSION

47 CFR Part 73

[DA 03-3923, Docket No. 02-250, RM-10549]

Radio Broadcasting Services; Las Animas, CO

AGENCY: Federal Communications Commission.

ACTION: Proposed rule, dismissal.

SUMMARY: This document dismisses a pending petition for rulemaking to add an FM allotment in Las Animas, Colorado. The Audio Division had requested comment on a petition filed by Sierra Grande Broadcasting, proposing the allotment of Channel 234C1 at Las Animas, Colorado. See 67 FR 57203, September 9, 2002. Petitioner did not file comments supporting the requested allotment. This document dismisses the petition for failure to demonstrate a continuing interest in the requested allotment. The document therefore terminates the proceeding.

ADDRESSES: Federal Communications Commission, Washington, DC 20554.

FOR FURTHER INFORMATION CONTACT: Deborah A. Dupont, Media Bureau (202) 418-7072.

SUPPLEMENTARY INFORMATION: This is a synopsis of the Commission's Report and Order, MB Docket No. 02-368, adopted December 12, 2003, and released December 16, 2003. The full text of this Commission decision is available for inspection and copying during normal business hours in the FCC Reference Information Center (Room CY-A257), 445 12th Street, SW, Washington, DC. The complete text of this decision may also be purchased from the Commission's copy contractor, Qualex International, Portals II, 445 12th Street, SW, Room CY-B402, Washington, DC 20554, telephone (202) 863-2893, facsimile (202) 863-2898, or via e-mail qualexint@aol.com.

Federal Communications Commission.
John A. Karousos,
Assistant Chief, Audio Division, Media Bureau.

[FR Doc. 04-116 Filed 1-5-04; 8:45 am]

BILLING CODE 6712-01-P